DEPARTMENT OF HEALTH AND HUMAN SERVICES

Health Resources and Services Administration

National Vaccine Injury Compensation Program List of Petitions Received

AGENCY: Health Resources and Services Administration, HHS.

ACTION: Notice.

SUMMARY: The Health Resources and Services Administration (HRSA) is publishing this notice of petitions received under the National Vaccine Injury Compensation Program (“the Program”), as required by section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, NW., Washington, DC 20005, (202) 219-9657. For information on HRSA's role in the Program, contact the Director, National Vaccine Injury Compensation Program, 5600 Fishers Lane, Room 8A-46, Rockville, MD 20857; (301) 443-6593.

SUPPLEMENTARY INFORMATION: The Program provides a system of no-fault compensation for certain individuals who have been injured by specified childhood vaccines. Subtitle 2 of title XXI of the PHS Act, 42 U.S.C. 300aa-10 et seq., provides that those seeking compensation are to file a petition with the U.S. Court of Federal Claims and to serve a copy of the petition on the Secretary of Health and Human Services, who is named as the respondent in each proceeding. The Secretary has delegated his responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at section 2114 of the PHS Act or as set forth at 42 CFR 100.3, as applicable. This Table lists for each covered childhood vaccine the conditions which will lead to compensation and, for each condition, the time period for occurrence of the first symptom or manifestation of onset or of significant aggravation after vaccine administration. Compensation may also be awarded for conditions not listed in the Table and for conditions that are manifested after the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on April 2, 2001, through June 27, 2001.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above (under the heading “For Further Information Contact”), with a copy to HRSA addressed to Director, Bureau of Health Professions, 5600 Fishers Lane, Room 8-05, Rockville, MD 20857. The Court's caption (Petitioner's Name v. Secretary of Health and Human Services) and the docket number assigned to the petition should be used as the caption for the written submission.

Chapter 35 of title 44, United States Code, related to paperwork reduction, does not apply to information required for purposes of carrying out the Program.

List of Petitions

1. Jessica Zlotnick, Boca Raton, Florida, Court of Federal Claims Number 01-0187V

2. Karen Karibian, New York, New York, Court of Federal Claims Number 01-0188V

3. Marilyn Timony on behalf of Trisha Timony, Old Bridge, New Jersey, Court of Federal Claims Number 01-0189V

4. Gwen Hennessey on behalf of Thomas D. Hennessey, Chanhassen, Minnesota, Court of Federal Claims Number 01-0190V

5. Deborah Rosales-Elkins, Austin, Texas, Court of Federal Claims Number 01-0191V

6. Grace Szekeres, Vienna, Virginia, Court of Federal Claims Number 01-0197V

7. Edith Vig on behalf of Sebastian Vig, Vienna, Virginia, Court of Federal Claims Number 01-0198V

8. Mary Forr on behalf of Kathryn Forr, Deceased, Vienna, Virginia, Court of Federal Claims Number 01-0199V

9. Marcia S. Damron on behalf of Emma Brook Damron, Deceased, Vienna, Virginia, Court of Federal Claims Number 01-0200V

10. Tammi and Michael Fischer on behalf of Alex Fischer, Pittsburgh, Pennsylvania, Court of Federal Claims Number 01-0207V

11. Sharon Kosensky on behalf of Michael Kosensky, Boston, Massachusetts, Court of Federal Claims Number 01-0208V

12. Lia Xiong on behalf of Cuabzog Thor, Deceased, Milwaukee, Wisconsin, Court of Federal Claims Number 01-0212V

13. Laurie Humann on behalf of Antonio Humann, Belle Fourche, South Dakota, Court of Federal Claims Number 01-0213V

14. April Serrette and Tyrone Walker on behalf of Tyriq Amar Walker, Deceased, Orlando, Florida, Court of Federal Claims Number 01-0216V

15. Mary Ashby, Boston, Massachusetts, Court of Federal Claims Number 01-0221V

16. Sharon and Henry Scruggs on behalf of Kendra Scruggs, Deceased, Little Rock, Arkansas, Court of Federal Claims Number 01-0228V

17. Devin Corzine on behalf of Sarah Corzine, Deceased, Cincinnati, Ohio, Court of Federal Claims Number 01-0230V

18. Richard Piscopo, Richmond, Virginia, Court of Federal Claims Number 01-0234V

19. Melody and Roger Stacey on behalf of Emily Ann Stacey, Muskogee, Oklahoma, Court of Federal Claims Number 01-0239V

20. Nancy Collazo Garcia on behalf of Gregory Garcia, Lindenhurst, New York, Court of Federal Claims Number 01-0241V

21. Susan Davis, Pickins, South Carolina, Court of Federal Claims Number 01-0255V

22. Paula K. Helzner on behalf of Megan Helzner, Vienna, Virginia, Court of Federal Claims Number 01-0263V

23. Stacy A. Murray on behalf of Allison Taylor Murray, Anna, Illinois, Court of Federal Claims Number 01-0265V

24. Patricia Adams on behalf of Liam Adams, Deceased, Flemington, New Jersey, Court of Federal Claims Number 01-0267V

25. Timothy Richley, Traverse City, Michigan, Court of Federal Claims Number 01-0268V

26. Sheila Alloway on behalf of Brooke Blankenship, Jefferson, Georgia, Court of Federal Claims Number 01-0273V

27. Barbara and Robert F. Page on behalf of Emily Denille Page, Dover, Ohio, Court of Federal Claims Number 01-0277V

28. Karen and John Slavinski on behalf of Ashley Slavinski, Deceased, Albuquerque, New Mexico, Court of Federal Claims Number 01-0278V

29. Jennifer and James McCloy on behalf of James C. McCloy, III, Okemos, Michigan, Court of Federal Claims Number 01-0285V

30. Tonia Gardner on behalf of Justyce Gardner, Boston, Massachusetts, Court of Federal Claims Number 01-0286V

31. Caryn and Bob Brett on behalf of Stephen Brett, Tacoma, Washington, Court of Federal Claims Number 01-0287V

32. Kathleen and Charles Pirie on behalf of Blaire N. Pirie, Shawnee Mission, Kansas, Court of Federal Claims Number 01-0288V

33. Paula Flynn on behalf of Patrick Flynn, Boston, Massachusetts, Court of Federal Claims Number 01-0297V

34. Kathy Arceneaux on behalf of Julie L. Arceneaux, Deceased, Lafayette Parish, Louisiana, Court of Federal Claims Number 01-0298V

35. Kristine and Robert Davis on behalf of Michael McKinney Davis, Riverside, California, Court of Federal Claims Number 01-0302V

36. Salvatore Formica, Boston, Massachusetts, Court of Federal Claims Number 01-0304V

37. Teresa Hager on behalf of Allison Hager, Fayette, Missouri, Court of Federal Claims Number 01-0307V

38. Eric Bisenius, Columbus, Ohio, Court of Federal Claims Number 01-0308V

39. Kenneth Mathis and Debbie Rizzuto on behalf of Brenda Mathis, St. Louis, Missouri, Court of Federal Claims Number 01-0312V

40. Suzanne C.M. Falksen, Louisville, Colorado, Court of Federal Claims Number 01-0317V

41. Nannette Heckler on behalf of Derek Heckler, Buffalo, New York, Court of Federal Claims Number 01-0319V

42. Todd Stockwell on behalf of Christian Taylor Stockwell, Huntington Beach, California, Court of Federal Claims Number 01-0330V

43. Maria Holter on behalf of Tait Leidholm, Ann Arbor, Michigan, Court of Federal Claims Number 01-0332V

44. Susan C. Irey-Green on behalf of Bailey Irey, Redlands, California, Court of Federal Claims Number 01-0333V

45. Marie and Bart Snead on behalf of Sarah Ann Snead, Lexington, Kentucky, Court of Federal Claims Number 01-0337V

46. Verna and Gilbert Castro on behalf of Joshua Bermenderfer, Las Vegas, Nevada, Court of Federal Claims Number 01-0340V

47. Nilsa Benitez, Bronx, New York, Court of Federal Claims Number 01-0341V

48. Linda Dannenberg on behalf of Benjamin Sarle, Katonah, New York, Court of Federal Claims Number 01-0352V

49. Caron and Jim Gaydon on behalf of Taylor Gaydon, Vienna, Virginia, Court of Federal Claims Number 01-0353V

50. Nicole Favaro on behalf of Kyle Favaro, New Windsor, New York, Court of Federal Claims Number 01-0354V

51. Emma Hart on behalf of Manasseh Mclea, Portland, Oregon, Court of Federal Claims Number 01-0357V

52. Robin and Thomas Stavola on behalf of Holly Stavola, Red Bank, New Jersey, Court of Federal Claims Number 01-0360V

53. Marlena and Walter Hebern on behalf of Sarah Hebern, Fresno, California, Court of Federal Claims Number 01-0361V

54. David R. Fleury, Lyons, Georgia, Court of Federal Claims Number 01-0364V

55. Robin and Steve Roller on behalf of Nicholas Gene Roller, Atoka, Oklahoma, Court of Federal Claims Number 01-0365V

56. Angela Moreno-Lanciano and Orlando F. Moreno-Santiago, Jr. on behalf of Matthew Lanciano, Winchester, Virginia, Court of Federal Claims Number 01-0368V

57. Thanh K. Cao and Tung Thanh Tran on behalf of Michelle Ashley Cao, Houston, Texas, Court of Federal Claims Number 01-0378V

Dated: July 27, 2001.
Elizabeth M. Duke,
Acting Administrator.

[FR Doc. 01-19464 Filed 8-2-01; 8:45 am]

BILLING CODE 4165-15-P